DEPARTMENT OF DEFENSE

Department of the Army

Performance Review Board Membership for the Chief of Staff of the Army

AGENCY: Department of the Army, DoD.

ACTION: Notice.

SUMMARY: Notice is given of the names of members of a Performance Review Board for the Department of the Army.

EFFECTIVE DATE: November 26, 2003.

FOR FURTHER INFORMATION CONTACT: Marilyn Ervin, U.S. Army Senior Executive Service Office, Assistant Secretary of the Army, Manpower & Reserve Affairs, 111 Army Pentagon, Washington, DC 20310-0111.

SUPPLEMENTARY INFORMATION: Section 4314(c)(1) through (5) of Title 5, U.S.C., requires each agency to establish, in accordance with regulations, one or more Senior Executive Service performance review boards. The boards shall review and evaluate the initial appraisal of senior executives' performance by supervisors and make recommendations to the appointing authority or rating official relative to the performance of these executives.

The members of the Performance Review Board for the U.S. Army, Chief of Staff of the Army, are:

1. MG Lawrence R. Adair, Assistant Deputy Chief of Staff, G-1.

2. MG Dorian T. Anderson, Commanding General, United States Army Human Resources Command.

3. BG Harry B. Axson, Jr., Deputy Director for Operations, J-3, U.S. Central Command.

4. Mr. Brian Barr, Technical Director, U.S. Army Test and Evaluation Command.

5. Ms. Jean M. Bennett, Director, Resources and Infrastructure, Office of the Deputy Chief of Staff, G-2.

6. Mr. Vernon M. Bettencourt, Jr., Technical Advisor to the Deputy Chief of Staff, G-3, Office of the Deputy Chief of Staff, G-3.

7. MG Robert W. Chesnut, Assistant Deputy Chief of Staff, G3 (Mobilization), Office of the Chief, Army Reserves.

8. MG Peter W. Chiarelli, Commanding General, 1st Cavalry Division.

9. LTG Claude V. Christianson, Deputy Chief of Staff, G-4.

10. Dr. Craig E. College, Deputy Assistant Secretary of the Army (Infrastructure Analysis), Office of the Assistant Secretary of the Army (Installations and Environment).

11. Mr. William F. Crain, Technical Director, U.S. Army Center for Army Analysis.

12. BG Bruce Davis Deputy Director, Operations, Readiness, and Mobilization, National Guard Bureau.

13. MG B. Sue Dueitt, Director, Personnel Transformation.

14. Mr. Terrance M. Ford Assistant Deputy Chief of Staff, G-2

15. MG James J. Grazioplene, Director, Force Development Office of the Deputy of the Deputy Chief of Staff, G-8.

16. LTG Benjamin S. Griffin, Deputy Chief of Staff, G-8.

17. BG Dennis E. Hardy, Commanding General, 24th Infantry Division (Mechanized ) and Fort Riley.

18. MG David H. Huntoon, Jr., Commandant, U.S. Army War College.

19. BG Kenneth W. Hunzeker, Vice Director for Force Structure, Resources and Assessment, J-8, The Joint Staff.

20. BG Jerome Johnson, Director of Plans, Operations and Readiness, Office of the G-4.

21. LTG John M. Le Moyne, Deputy Chief of Staff, G-1.

22. Mr. Mark R. Lewis, Director of Plans, Resources, and Operations, Office of the Deputy Chief of Staff, G-1.

23. Ms. Maureen T. Lischke, Program Executive Officer for Information Systems and Chief Information Officer, National Guard Bureau.

24. MG James J. Lovelace, Jr., Director of the Army Staff.

25. Mr. Wendell Lunceford, Director, Army Model and Simulation Office, Office of the Deputy Chief of Staff, G-3.

26. LTG Charles S. Mahan, Jr., Deputy Chief of Staff, G-4.

27. BG Jesus A. Mangual, Director of Force Projection and Distribution, Office of the Deputy Chief of Staff, G-4.

28. Mr. John W. Matthews, Director, Army Declassification Activity, Office of the Deputy Chief of Staff, G-1.

29. MG David F. Melcher, Director, Program Analysis and Evaluation, Office of the Deputy Chief of Staff, G-8

30. Mr. William P. Neal, Associate Director, Force Projection and Distribution, Office of the Deputy Chief of Staff, G-4.

31. Mr. Mark J. O'Konski, Director of Research and Development, Directorate of Research and Development, U.S. Army Corps of Engineers.

32. MG Elbert N. Perkins, Commanding General, U.S. Army Japan and 9th Theater Support Command.

33. BG Steven P. Schook, Chief of Staff, KFOR (Main), Film City, Camp Bondsteel.

34. Mr. David L. Snyder, Assistant G1 for Civilian Personnel Policy, Office of the Deputy Chief of Staff, G-1.

35. Mr. John C. Speedy, III, Deputy Director for Army International Affairs, Office of the Deputy Chief of Staff, G-3.

36. Mr. James J. Streilein, Director, Army Evaluation Center, U.S. Army Test and Evaluation Command.

37. Ms. Elizabeth B. Throckmorton, Director, Civilian Personnel Management, Office of the Deputy Chief of Staff, G-1.

38. MG James D. Thurman, Director of Training, Office of the Deputy Chief of Staff, G-3.

39. Mr. Donald C. Tison, Assistant Deputy Chief of Staff for Programs, Office of the Deputy Chief of Staff, G-8.

40. Mr. Edgar B. Vandiver, III, Director, U.S. Army Center for Army Analysis.

41. BG Lloyd T. Waterman, Director of Sustainment, Office of the Deputy Chief of Staff, G-4.

42. MG David P. Wherley, Jr., Commander, DC National Guard.

43. Mr. Daniel F. Wiener, II, Chief Information Officer, Chief Army Reserve.

Luz D. Ortiz,
Army Federal Register Liaison Officer.

[FR Doc. 03-30157 Filed 12-3-03; 8:45 am]

BILLING CODE 3710-08--M